DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2017. For purposes of this listing, long-term residents, as defined in section 877(e)(2), are treated as if they were citizens of the United States who lost citizenship.

Last name | First name | Middle name/initials
ABERNETHY | BRENT | LESLIE
ABRAMS | JO-ANNE
ACHESON | SOPHIE | LOUISE
ADAMS | VICTORIA | SARAH
AESCHBACHER | HEIDI
AGARWAL | SWATI
AGUIAR | TONYA | JEANNE
AHN | JEE | EUN
AHN | MICHAEL
AKERS | SANDRA | LEE
AKERT | KARIN | ROSEMARIE
AL ANSARI | KHALIFA | ABDULLA
AL FAROUKI | TANIA | ALTAJI
ALAWI-WESTPHAL | MARGARET | NASSER
ALBOINI | LESLEY | ANNE LEMESURIER
ALBRECHT | PABLO
ALDRICH | CASSANDRA | FRANCES CASSON
AL-HAMMAD | MESHAL | ABDULRAZZAK
ALKANDARI | SARAH | H.M. TALEB
ALKHADRA | FAHED | FOUAD
AL-KHALIFA | ABDULLA
ALLARD | MICHAEL | PAUL
ALLEN | JACQUELYNE | MARIE
ALLEN | JENNIFER | LEIGH
ALLEN | JOSEPH | CARL
ALLURED | BRIAN | GEORGE
AL-MAHMOOD | HANAN | MOHAMED
AL-MUTAIRI | HUSSAIN | A.
AL-YAHYA | HEND | OTHMAN KHALID
ALZABIN | DANAH | AHMAD
AMBROZIC-DUB | MARIA | SUZANNE
AMETAME ELROD | ERIKA | LOUISE
ANASTASOPOULOS | SUSAN | THELMA
ANDERSEN | COLTER | ETHAN
ANDERSEN | LIV | KINGE
ANDREW | DONIA
ANDROULIDAKIS | EMMANUEL | KIRIAKOS
ARAS | STEPHEN | FRANCIS
ARBUCKLE | STEPHANIE | SHELLY
ARMSTRONG | HELEN | KAY
ARMSTRONG | JULIE | ANN
ASAMI | EIKO
ASAMI | KIYOSHI
ASSIRELLI | JUDITH | BEESON
ASTOR | MARCIA | FRANCES
ATIE-HARRICK | BERTRICE
ATKINS | NICHOLAS | GEOFFREY
ATTENHOFER-PATT | CORNELIA | LOUISE
AUBERT | ROBIN | JOSQUIN CASIMIR
AUBRY | ANTOINE | JOSEPH
AUBRY | ARIEL | MARC
AUGER | FRANCOIS | SERGE
AURINI | JASON | KENNETH
AUSTIN | DAVID | GRAHAM
AUSTRENG-VON WYL | MARY | LOU
BACH | CLIVE | DAVID
BACQUAERT | HADRIEN | LAWRENCE
BADR | GWENDOLYN | JANE
BAE | HYUN | TAK
BAEK | YOUNG | NAHN
BAGSHAW | ROBERTA | LEE
BAILER-JONES | CORYN | ANDREAS LEVERING
BAILLY | MATTHEW | DOUGLAS
BAIRD | LEE-ANNE | MARIE
BAKHSHIAN | LINDA
BAKKUM | NANNEKE | MARIETTE
BALLINGER | JANE | ELLEN
BANCROFT | IAN | DAVID
BARBER | SUSAN | BARBARA
BARKER | ANNA | BROOKE
BARNE | THOMAS | MICHAEL
BARNES | DAVID | JESSE
BARRACLOUGH | LEE | TRACEY
BARTLETT | LEAH | DANIELLE
BARTLETT | SHERYL | ANNE
BARTON | JOHN | FRANK
BAR-YAACOV | KEREN | RACHEL
BASIN | DAVID | ALAN
BAXTER | BRIAN | GRANT
BEATTY | MADELINE | EDITH
BECKER | CARL | RAY
BECKERS | STEVE | WILLIAM
BECKLER | TRACEY | JEAN
BEGG | KERENE | REGINA CHRISTOPHA
BEITEY | DAVID | JAMES
BELIEN | CHRISTOPHE | LILIANE KOEN
BELL | EMILY | KATHERINE
BELL | MARY | OLIVIA
BELL | SARINA | MARIE
BELT | LYNDA | JOY
BENESTANTE | JAMES
BENNETT | JOHN
BENNETT | RICHARD | JAMES
BENT | MAXINE | SULAINE
BERETTA | ALLISON | MARY AGNES
BERGMAN | MARK | HALVARSON
BERKELHEIMER | SANDRA | BETH
BERNBAUM | LORNA | KAY
BERNSTEIN | DOROTHEE | BARBAR
BERT | DOMINIQUE | CLAUDE
BERTSCH | EVELYN | MAE
BESONHE | KATHLEEN | BERNADETTE MICHELE
BEUKERS-VOIGT | INGRID | MARIAN
BEYER | LYNDA | MARIE
BHARUCHA | PERIN
BI | ZI | MING
BIRDWELL | JULIA | LEE
BLACKBOURN | CATHERINE | LEE
BLAKE | VALERIE | ANN
BLAKER | MARK | RICHARD
BLEICH | DANIEL | JUDAH
BLOOS | ROBB | O'BRIAN
BODENSTEIN | DEBORAH | ANN
BOELMAN | SHANNA | MARIE
BOIVIN | INGRID | ALEXANDRA
BOLLA | JASON | JOSEPH
BOLLIGER | JEANNE | MARIE
BOLTON | TIMOTHY | MICHAEL
BORNSTEIN | ELI
BOSSHARD | MICHELLE | MARTOWICZ
BOUNIN | KATRINA | MARGARETE-HELENE
BOURGEOIS | SCOTT | DAVID
BOURIS | JULIE | ADRIENNE
BOURNAZEL | AURORE | HEMERA
BOURNE | NANETTE | KATHRYN
BOUTEILLER | VICTOR | DONALD
BOYD | JOAQUIN | ALCIDES
BRADSHAW | MICHAEL | RODMOND
BRANDA | ERICA | MERYL
BRANDENBURG | DENNIS
BRANDT | MICHAEL | PAUL
BRANTLEY | MICHAEL | SEAN
BRASNETT | ROZANNE | FAITH
BREDSCHNEIDER | AMY | SUSAN
BREIDENBACH | ANTONIA | MARTINHO DA ROCHA
BREITENSTEIN | KIRIANNE | REBECCA
BRESLOW | MAURICE | ALLEN
BRINGOL | RANDALL | JOHN
BROUGHTON | DAVID | WILLIAM
BROWN | NINA | NOVICOV
BROWN | STEPHANIE | JILL
BRUGALETTE | HEATHER | JOYCE
BRUYNINCKX | BOB | BEN FRANCIS
BRYAN | JOHN | CULLEN
BUCKLAND | TIMOTHY | ANDREW
BUEHNING | MARILYN | JOY
BUERGI | MARC | ANDRES
BUI | GUYET-MINH | THI
BULL | BARBARA | JEAN
BULLIMORE | ROSS | DANIEL
BURNS | ALEXANDER | DAVID
BURNSTAD | KARISSA | JANE
BUSCHKUEHLE | SONJA | GEORGIA
BUSH | ERIC | LENNOX
BYRNES | BRIAN | MICHAEL
CACHIN | ANGELA
CACHO | SANDRA | UGARTE
CAEN | DEBORAH | VICOLA
CALLENS | CECILE | PAULINE
CAMPBELL | DONALD | HUGH
CAMPBELL | KEVIN | ROSS
CAMPEAU | ALAIN | PIERRE
CANION | PATRICK | STANLEY
CARLSON | MATTHEW | PETER JAMES
CARPENTER | ANITA | SUE
CARPENTER | JOHN | LINDSAY
CARPENTIER | CAROLINE | JOSEPHA
CARREAU | SARAH | JANE
CARSON | CHRISTIE | ELENA
CARSON-SMITH | SARA
CARTER | LAURA | MARY
CARTER | LYNDA | JEAN
CARTER | SAMUEL | SCOTT
CARVER | BETTY | BINGHAM
CASELLA | CAROL | KATHLEEN
CASTELLINI | LAVINIA | LETIZIA
CHAMBERS | LISA | JEANNE
CHAN | DOMINIC | HON-CHUNG
CHAN | KOON | YUEN
CHAN | SOPHIA | SHIN SIEN
CHANG | JOSEPH
CHANG | SHU-WEI | PHILIP
CHANG | TA-LIN
CHANG | TIFFANY | TEFEN
CHAO | HSIN-YING
CHARLEBOIS | PATRICIA | ANN
CHARLES | MADELEINE | MARIE
CHARLES | PEARNEL | PATROE
CHARLESWORTH | LYNNE | FRANCES
CHASE | MARK | HAMILTON
CHASE | SHERRILL | ANN
CHAUDHARY | WAJEEHA | SHAHID
CHAUDRON | CHARLES | DOUGLAS
CHEATHAM | JAMES | KIMBERLEY
CHEN | I-HSUNG
CHEN | JAMES | LI-JEN
CHEN | JIMMY
CHEN | KEANE | WU
CHEN | SU | MAE
CHENG | FAAT | TING GARY
CHEONG | RENEE | CONSTANCE YUE KEW
CHEVRON-TIBERGHIEN | CATHERINE | MARIE
CHILDS | GLENNA | JOAN
CHIN CHOY | RAYMOND | DIEGO
CHIN CHOY | ROSALIND | STELLA
CHITOLIE | ELTON | MC KENNA WILLIAM
CHMIEL | ISAAC
CHONG | HUI | XIAN
CHOW | JANE | MING-JEN
CHRISTENSEN | GARY | LEE
CHRISTIANSEN | KIMBERLY | ANNE
CHU SIMPSON | DENISE | ANN
CHUNG | ANDREA | WAI HEI
CHUNG | MERRICK | WAI LIK
CLAPP | ALICIA | RATHBURN
CLEAVE | ROGER | CAMERON
CLEVENGER | GENE | WARDLOW
COAD | EDWARD | JOHN
COBBAN | ANNE | MARIE
COCHRANE | GREGORY | JAMES
COCHRANE | LAURA | ELIZABETH
COCIVERA | TODD | MAGINNIS
COCKRELL | ALLYN | REZA
COCKX | KRISTA | DAWN
COENRAADS | ROBBERT | GEERT
COGELS | CHARLINE | MARIE
COGNARD | CECILE | YOLANDE CHRISTIANE
COLE | EUGENE
COLLINS | ALLISON | ARDEN PAISLEY
COLLINS | KRISTEN | JEANNE
COLLINS | NICHOLAS | CLARK
COLTON | EMILY | CATHERINE
CONRAD | KATE | REBECCA
CONRADI | JAN
COOK | ROSALIND | FAYE
COOKE | MONICA | KIRSTIN
COOKE | NICHOLAS | JAMES
COOPER | ELIZABETH | PATRICIA
COOPER | REBECCA | DAWN
COQUEREL | CATHERINE | ROSE
CORMIER | DIANE | LINDA
CORNELIUS | HARRY | HAMILTON
CORNELL | NATALIA | DJANYNE RIBEIRO
CORREA | CARLOS | MIGUEL DE MIRANDA
CORRIAS | PILAR | SOPHIA
COX | PHILIP | SIMON
COX | SUSAN | LESLEY
CRABBE | BEATRICE | FRANCOISE
CRACCO | INES | NATHALIE
CRAEN | YVES | JEAN MARIE
CRANE | BARBARA | ANN
CRAVEN | SUSAN | NEVA
CRAWFORD | LAUREN | SKYE
CROTHERS | ELIZABETH | CREIGHTON
CROTTA | ELEONORA | ERVINA
CROW | STEPHEN | JOHN
CUNNINGHAM | DYLAN | THOMAS
CURRIE | LINDA | ELLEN SHARON
CURRIE | ROBERTA | CALDWELL
CYBUL | ALEX | GABRIEL
DALEY | ROSE | EILEEN
DALIN | JEREMIE
DALRYMPLE-HAY | JENNIFER | PHYLLIS ROBERTA
DALY JR | GEORGE | ROBERT
DANIEL | JAMES | ANTHONY
DANIELS | PHILLIP | RICHARD
DANN | CHERYL | ELIZABETH
DAOUD | NADYA | SOAAD
DARLINGTON | NICOLE
D'AVAUCOURT | CHARLOTTE | ANNE M C DE VITRY
DAVID | ALON | BEN
DAVIS | ROGER | WILLARD
DAWALIBI | ADNAN | NOFAL
DE ARAUJO | JAIME | BAKER PESSOA
DE ARAUJO | SOFIA | BAKER PESSOA
DE BIEVRE | JETTEKE | NANCY
DE CHEZELLES | ANNE-C | LE SELLIER
DE CRISTOFARO | SONIA | ELIZABETH
DE GROW | SETH | COLIN
DE HEUG | YVES | JACQUES
DE LA DURANTAYE | JUDE
DE MAREDSOUS | BEATRICE | MARIE THERESE G. DESCLEE
DE VISSER | SIEMAN | FRANS
DEAN | SANDEE | DIANE
DEDA | DARLENE | GALE
DEL ROSSO | LEO | JAMES
DELANTY | BARBARA | MICHI
DELBOSC | ALEXA | REYNOLDS
DELISLE | BETH | HODGES
DELMARTER | CLAYTON | DOUGLAS
DELVAUX | ALEXIA | MARIANNE
DEMARET | MICHELE
DEN TANDT | INGRID | MICHELE
DENIS | SANDRA | JEAN
DERAEDT | MARC | ROGER DANIEL
DERR | TONY | OUITALIO
DEVINE | ZACHARY | LANGDON
DICK | MARIE-CAROLINE
DICKSON | JOHN | MATTHEW
DIEBSCHLAG | LINDA | FRAN
DILLON | KIRK | LAWRENCE
DITTMAR | FRANK | JOHN
DJEU | GLORIA | LI FONG
DOBIAS | JOSEPH | ALAN
DOCKRAY | DIXIE | ANN
DODD | DEBRA | RACHEL HOROWITZ
DODD | LISA | GILLIAN HOROWITZ
DOMMASCHK | NOAH | ROBERT
DONNELLY | MICHAEL | WADE
DONNER | GAVIN | JOEL
DOOLEY | ANNE | GERTRUDE
DOWNING | MARC | LEONARD
DOWNING | THOR | LORENZ
DRAGER | JANINA
DRAKE | JACKSON | JOHN
DRURY | SUSAN | REMINGTON
DU SAUTOY | NANN
DUBETS | PATRICIA | LEIINAALA
DUCHARME | FRANCINE | MONIQUE
DUFOUR | YVONNE | MADELEINE
DUMETT | CLEMENT | WALLACE
DUNBAR | KAREN | ANN
DUTOIT | ALLEN | HENRY
DUWORS | CAROLINE | ANNE
DWEK | JONATHON | DESIRE
EAGEN | JONATHON | THOMAS
EASTEP | NEIL | ROBERT
EBNER | BIANCA | THERESA
ECKERT | CHRISTINA
EDELSON | LILLY | BAYLA FORREST
EDMUNDS | ANTON | EDSEL
EHRMANN | ELISABETH
EINHORN | NOYA
EISEL | FELIX
EL TORGOMAN | LILA
ELDARWISH | SANI
ELIAS | DOROTHY | MARY
ELLIS | BARBARA | SOPHIA
ELLIS | CODY | ROBERT
ELLIS | MARY | ELIZABETH
ENGEL | NATASHA
ENGLISH | REBEKAH
ENGLISH | ROBERT | BRADLEY
EPSTEIN | CATHERINE | ROSE
ESHLEMAN | JENNIFER | MELISSA
ESPINOSA | ADRIANA | MELIDA
ESSENBURG | LARRY | DALE
ESTEVE | PATRICK | RAMON
ESTILL | JAMES | ANDREW
ETHANS | RENEE | CHRISTINE
ETUE | MICHAEL | THOMAS
EULER | FINN | LASZLO
EVANS | KATHARINE | ANNE
EVANS | PATRICIA | MARIE
EYLES | JENNIFER | CHRISTINE
FAHLMAN | ZACHARY | RAYMOND ROBERT EYTEL
FALCONER | FELICITY | ANNE
FARIS | SUZANNE | RUTH
FELIX | STANLEY
FELLER-ENDICOTT | RODNEY | BRIAN
FENDER | CALVIN | BRENT
FEN-HUA WEN | MARIE-EVE
FERGUSON | DONNA | LILIAN
FERGUSON | JOHN | ALAN
FERGUSON | KATHERINE | JANET
FERRACANI | MATHILDE | CAMILLE
FILIAULT | DONAT | TELESPHORE
FISCHEL | ROBERT | JOHN
FISER | MARTIN
FISHER | BRENT | WASHBURN
FISHER | MICHELLE | YVONNE
FLORES | FRANCISCO
FLYE | JOHN | GREENING
FLYNN | BARRY | KEATS
FOELLER | JOHANNES | ROBIN
FOLCH-RAMIREZ | ROBERTO | JOSE
FONG | CHOONG | SIAN
FONTAINE | WILLIAM | HENRY
FOODY | JUDITH | ELAINE
FORD-JONES | ELIZABETH | LEE
FORSTER | M | MARLENE
FORSYTH | CAROL | ANN
FORTIN | JEAN | MATHIEU
FOX | MICHAEL | ALAN
FRANCO | JANITZIN
FRANCO | MICHAEL | FERNANDO MOREIRA
FRANCO | YVETTE | MARIE
FRANKEL | DANIEL | HAIM
FRANKLIN | KAREN | JEANNE
FRASER | HAMISH | DAVID
FRASER | LISA | SHERYL
FRATER | STEPHEN | CRAIG
FREED | AARON | CHRISTOPHER
FREEDMAN | SHARON | JUDY
FREEMAN | BRIAN | ANDREW
FREEMAN | LENA | JANINE
FREI | EVA | CHRISTINA
FREIIN VON THIELMANN | ANDREA | KAMINKA VICTORIA
FREIMAN | BENJAMIN | CHARLES
FREITAG | LENORA | DELINA
FRIEDMAN | JOSEPH | ALAN
FRITH | VICTORIA
FROESCHL | MARKUS | JOHANN
FROMOWITZ | MARLI | JOY
FROVARP | JACQUELINE | MARIE
FRYE | SARAH | ELIZABETH
FUCHS | CLAUDIA | INGRID
FUEGLISTALER | SILAS | URS
GAILITS | EDWIN | AUGUSTUS
GAILY | CAROLE | ANN
GAILY | MARGARET | EMILY
GAILY | TERRY | DEAN
GAINER | CHANTELLE | NICOLE
GANCAS | ROD | MICHAEL
GARDNER | BRYAN | FRED
GARRETT | RONALD | PAUL
GARVIN | MARIE | ALEXANDRA
GAUDET | EUGENE | EDWARD
GAUDETTE | LINDSAY | JAYE
GAUDION | EMILE
GAULT | ROSEANNE | MARY
GEBHARDT | WINIFRED | ANNE
GEHRIGER | PATRICK
GEORGE | EMILY | CHRISTINE
GERBER | PAUL | ADAM
GERSON | SHARON
GEVAERT | YVONNE | ADRONIE
GEX | KRISTINE | K MORGENTHALER
GHENT | NATALE | CLARA
GHENZER | GREGORY | DAVID
GHERARDI | CARL | CHRISTIAN
GILBOA | AMIT
GILLIAM | HOLLY | DUBOIS
GLINSKI | IRENA
GOLDIS | ORIYA
GOLDSTEIN | DARLENE | RENEE
GOLKE | ALEX | THEODOR HEFNER
GOLZ | BARBARA | JOHANNA SEYFFARTH
GONZALES | EMILY | KRISTIANNE
GOODENBOUR | JAY | PATRICK
GOODFELLOW | JOEL | GREGORY
GOODFIELD | CINDI | JILL
GOODIN | ROBERT | EDWARD
GORDON | HEATHER | EILEEN
GORDON | MARK | ALLEN
GOUDIE | CYNTHIA | JEAN
GOULDIE | THOMAS | ARTHUR
GRANT | CHARLES | DUNCAN
GRANT | RANDI | LYNN
GRAVEL | SUZANNE
GRAY | MICHELE | IRENE
GRAY | VALERIE | ANNE
GREER | SIMON | GARNET
GREGOIRE | CLAUDE | ROLAND
GREGORY | MARGARET | NAN
GRIBI | PAUL | MARTIN
GRIEVE | ELIZABETH | SYNDEN MCWILLIAMS
GROSSMANN | ROBERT
GRULLON | ALEXANDRA | MARIA
GUARDACOSTA | GARY | ANGELO
GUINNESS | RORY | BENJAMIN
GUO | NAI | KANG
GUTTMANN | RONALD | DAVID
HAEDERLE | ANDREAS | GOTTTFRIED
HAFFTER | CAMILLE | CY CORSIN
HAGA | JENNIFER | ANN
HAINING | MARK
HALL | ISAAC | IAIN
HAMILTON | JAMES | DAVID
HAMILTON | MARK | RICHARD
HANCOCK | JACOB | WILLIAM MC LENDON
HANNOTIN | GERARD
HANSON | KARA | LEE
HARRIS | YVETTE | LENNEI
HARRISON | CHRISTINA | MARY
HARRYVAN | ROBERT | PAUL
HART | CRYSTAL | GEORGINA
HART | PATRICIA | ANN
HARVEY | CATHERINE | ANN
HARWIN | REBECCA | CLAIRE
HASHEM | RAWAN | JAWAD
HASSARD | JEAN | ALEXANDRA
HAVERS | JOAN | DEBORAH
HAY | CLAUDETTE | MARIE
HAYASE | NATSUHO | NANCY
HEAP | JAMES | L.
HECHT | SUSAN
HEETHAAR | DORINE | CHRISTINE
HELANDER | MICHAEL | DAVID
HEMME | TIM
HENSEL | SEBASTIAN | CLEMENS
HENSEN | JOSHUA | BENJAMIN
HERBERT | RACHEL
HERMANN | PETER | FRANZ
HERNANDEZ | ERIK-GILLES
HESCH | JON | MARTIN
HESS | ADAM
HESS | FLURIN
HEYMANN | LAURA | MARIE VICTORIA
HHSUI | WEN-CHI
HICKLEY | FIONA | CAROLINE SUSAN
HIGGINS | DAVID | LISTER
HIGGISON | DENNIS | J.
HILL | ARTHUR | BERNARD
HILL | EMMA | SHANNON PEACHEY
HILLMAN | ANNA | CAROLA
HINKLEY | MALLORY | KATHLEEN
HIS | ALICE | CHUNG YI
HITCHBORN | ALAN | DOUGLAS
HITCHBORN | DEBORA | DENISE BEHLE
HITCHCOCK | JOHN | RAYMOND
HITCHCOCK | PAMELA | JEWETT
HITCHINGS | LESA | MAE
HMOOD | HAMMAD | ADIL
HO | JAMES
HO | JEREMY | RUI YANG
HOBDELL | JOHN | ROBERT
HODGES | KATHRYN | VITTORIA
HODGSON | VIVIAN | JANE
HOERLER | DORIS | BRECHBUEHL
HOESS | JOSEPH | JAMES
HOFFMANN | KATIE | NIKITA
HOLLOWELL | ANNA | ELIZABETH
HOOD | PAMELA | LEE
HORN | JAMES | CHRISTIAN
HOSER | ALBERT
HOSS | ROI
HOWARTH | TARA | MAXINE
HOYLES | JOSEPH | THOMAS
HSU | ERIC | C.
HSU | YU | CHIN
HUANG | CATHERINE
HUANG | GORDON | KUO-LUN
HUEBSCH | GRETA | LOTTA
HUGHES | MARGUERITE
HUNT | MARGUERITE-ANNE | MARIE
HUNT | NORMA | CHANDRA
HUTCHINS | JUDITH | JOY
HUTTON | ROBERT | JAMES BRUCE
IJNTEMA | PATRICK
IMOUKHUEDE | DENIESE | EBAHIRI
INDOLESE | DEBORAH | MARIA
IOANNIDIS | MARIA
IRON | MICHAEL | ARIE
IRWIN | SAMUEL | DYLAN
ISELIN | KENNETH
ITO | HARUKA
IVANICK | JODY | LEE
JACKMAN | TARON | LESLIE
JACOBS | EDWARD | DECKER
JAGGER | SUZANNE | JEANNE
JAGO | SRAAH | LOUISE
JAHNER | JOANNE | PAULETTE
JAMES | MELVIN | PHILIP
JAMES | ROBERT | HENRY
JAMES | SEAN | MITCHEL
JANKA | INGEBORG | MARGARETE
JANSICK | MICHAEL | EUGENE
JANSSEN | LAURINE | MARIETTE
JANSSENS | JEFFREY | ELIOTT
JENKS | JOHN | STUART
JEPSON-TURNER | CLEMENTINE | ROSE
JESKE | ROSEMARIE
JOHNS | SHAD | BECKETT
JOHNSON | CANDACE | SUZANNE
JOHNSON | CORNELIA | BURKE
JOHNSON | EMILY | RUTH ELIZABETH
JURGGOVSKY | TAMARA | ANITA
KALIN | BEATRICE | ADELHEID
KALINA | GENEVIEVE
KALINA | JERKO
KAM | TERESA | YING-LUM WONG
KANAFANI | MOHAMMAD | HILAL
KANAKIYA | NIRAV | PRADEEPKUMAR
KANE | LEONARD | ROBERT
KANG | UN | JOO
KANOO | NABELL | KHALID
KANSOU | GHASSAN
KAO | CORY | ALAN
KARAPLIS | PANTELIS | DEMETRIUS
KARR | TERESA | CHRISTINE
KASK | JANET | DORIS
KAUFFMAN | JEREMY | MALCOLM
KAUR | SONIAJIT
KAWAI | KEN
KAWAI | REIKO
KEE | BRITTANY | MARIE
KEELER | DAVID | ALLEN
KEELING | STEPHEN | LOUIS
KEITH-FERRIS | JEANNE | MARGARET
KELLEY | IAN | BRICE
KELLY | SUSAN | PILAR
KENNY-TROUGHTON | HELEN | CATHERINE S
KENT | MCCLEARY | NOELLE
KENT | MICHELLE | RENEE
KENTON-SMITH | JESSE | CHRISTOPHER
KERAI | RASHILA
KERELUK | GEORGE | JOSEPH
KEUKER-SAMPLE | JEFFREY | COLIN
KHADRA | OMAR | YUSEF ABU
KHAMA | KAEDI | SEKGOMA
KHOORY | ESSA
KIKUCHI | HARUMI
KIM | BRIAN | SEONG
KIM | HYUN | A.
KIM | KEBIN | HYUNG
KIM | RICHARD
KIM | YONG | IL
KIMP | MARK | WAYNE
KING | MICHAEL | SETH
KINGSBURY | OLIVIA | JANE
KIRCHHOFER | CAROL
KIRK | MARY | VEDA
KIRSH | RICHARD | STEPHEN
KITISAKKUL | CHRIS
KIWANUKA | MUSISI | EDDIN
KLASSEN | TAMARA | LEIGH
KLEIN | JEAN | DANIEL
KLEINER | MARK | STEPHEN
KLEINSTEUBER | KENT | DEE
KLEYN | MICHIEL | FLORIAN EUGENE
KLINE | JULIE | ANNE
KLOOSTERHUIS | PATRICIA | THEODAORA
KOBAYASHI | HIDEKI | MICHAEL
KOBAYASHI | TAKESHI | JAMES
KODAKKADAN | IRFAN | AHAMED
KODALI | SITARAMAMMA
KODAMA | HIROKO
KOELLIKER-HAGMANN | LISA | CHRISTIANE
KOH | KARRIN
KOHLER | VICTORIA | CAROLINE KATHLEEN
KOLB | CLAUDIA | CATHERINE
KONZAK | MELINA | ESTHER
KOOPMANS | CATHERINE | JANE
KOPP | LEO
KORESAWA | LISA
KORMAN | STEVEN | ERIC
KORUPP | STEPHAN | WILLFRIED
KROIS | ERIK | WILLEM
KROVINOVIC | ZDRAVKO
KRUMSCHEID | CHRISTOPHER | ERIC
KUBLER | MARK | CHRISTIAN
KULKARNI | SHEETAL | MITIN
KULKARNI | SHRUTI | NITIN
KUNZLER | ANNA | SABINE
KUO | YU-CHIA | DAVID
KURTZWEG | VANESSA | DAWN
KUSSMANN | JAMES | KENNETH
KUTZ | DANIEL | SCOTT
LABRESH | JASON | JAMES
LACHICA | CEAN | KAI AGENA
LACK | ARLENE | SHEILA
LACROIX | DENIS | J.
LAECHELE | PETER | FREDERICK
LAGIER-HOYT | CARMEN | ELENA
LAI | CHRISTINE | MELODY
LAI | JUSTINA | CINDY
LAKE | DEBORAH
LAM | DENNIS | SAIHONG
LAM | LAWRENCE | SI-CHUNG
LAMBIN | WENDY | JENNIFER
LAMMIMAN | CURTIS | RAY
LANDRETH-SMITH | JOANNA | LESLEY
LANGER | JULIA | INGRID
LANSDELL | ANNA | LEIGH
LANSDELL | KYLE | CALEB
LARGUIER | GERARD | DANY
LARTIGUE | OLIVIER | CHARLES
LAUBER | DONNA | GERTRUDE
LAUGHTON | BRUCE | AUSTIN
LEASURE | MICHAEL | DAVID
LEBEDYK | BETH | SUZANNE
LECOMTE | CAROLE | MARINA
LEE | ALLEN
LEE | AMY | KAM PING
LEE | ANDREW | JOHN
LEE | ANITA
LEE | BRITTA | MAILYNNE
LEE | CHOONGIL
LEE | DANIEL | JUNGHYUN
LEE | HANNA | NAM
LEE | IN | WOEN
LEE | JENIFFER | TJI YOUNG
LEE | KUN | HUNG
LEE | MONA
LEE | TRACEY
LEE | WILFRED
LEHMANN | DANIEL | JURG
LEIREN | BJORN | DAG
LENCE | BARBARA | JEAN
LEONARD | REBECCA | LLYN
LEUNG | CINCI | WUN SIEN
LEVENSON | MICHAEL | LEE
LEVERE | MARY | CATHERINE
LI | CINDY | SHANTONG
LI | LINGNA
LIANG | LAUREN | IBING
LIANG | LAUREN | IBING
LIECHTENSTEIN | ANGELA | GISELA
LIEDL | SARAH | RITA
LIM | DEREK | ZWINGLI
LIN | YU-JU
LIND | GARY | MICHAEL
LINDNER | MARSHALL | TODD
LINDZON | GILLIAN | MICHELLE
LISTER | PATIENCE | MARTHA
LIU | JINNY | MING
LIU | JULIE | WING HANG
LIU | STANFORD | JAMES
LIU | TENG | HSIANG
LIZOTTE | CHARLES | JEAN
LO | JUSTIN | TING-WEI
LO | LISA | YING
LOFFLER | MAXIMILIAN | LEE
LOFSVOLD | LAUREL | ANN
LOMMERSE | PATRICIA | LEE
LONGHI | BRENDA | LEE
LOPEZ | SEBASTIAN | KARL-FRIEDRICH
LOUIZOS | ALEXANDRA | EMMA
LOVATELLI | CRISTOFORO | GAETANI
LOWE-HODGES | TERESA | MARIE
LOWES | TIFFANY | ANTONIA
LOWREY | SOPHIE | CAROLINE
LUBIN | JONATHON | MICHAEL
LUETHI | DEBORAH | YAEL
LYNCH | TRACEY | LEE-ANN
LYSAGHT | TERENCE | NEIL
MA | MEI | TI
MAC MILLAN | JANET | LYN
MAC NAUGHTON | JIMMY | NORMAN
MACALALAD | VANESSA | KAYE SUYAT
MACKENZIE | JOHN | DAVID
MACKENZIE | SARAH | ELIZABETH
MACKERACHER | DONALD | MATHESON
MACKEY | PATRICK | FRANCIS
MACLEAN | VICTORIA | QUINNELL
MAEDER | YAEL | JOHN
MAHLAB | KENNETH | FRANK
MAHLAB | ROBIN
MAHON | IAN | ROBERT
MAHTANI | JAI | ASHOK
MAIER | MONA | VICTORIA
MAITLAND | ANNABEL | REAVELY
MALINOFF | LINDA
MALONEY | PAUL | WHITING
MANES | DEVIN | NYE
MANRIQUE | CAMILA | RODRIGUEZ
MANZONI | MARINO | PETER
MARBET | OLIVER | STEVEN
MARKS | SARA | DIAMOND
MAROUN | MARTIN
MARPOZAN | FELICIA
MARPOZAN | SORIN | NICOLAE
MARSHALL | CHRISTINE
MARTI | ELIZABETH
MARTIN | RICHIE | DEAN
MARTINEAU | SONIA | GUYLAINE
MARTINEZ | MARIANELA
MARTINI | MARY
MARUSIC | NADA
MARZOLF | JOSEPH | RICHARD
MASON | CAROLYN | MASON
MATSUDA | HIROYUKI
MATTEAU | ANDREE
MATTHEWS | HOLLY | ELLENA MADELINE
MATTHEWS | LUKAS | ANSON
MATUTE | SONIA | GONZALEZ
MAUZ | VILJA | ROSALIA THERESIA
MAXEY | JOSHUA | JAMES
MAYBA | JOHN | NICHOLAS
MAYHEW | RUPERT | ALEXIS EDWARD
MAYNARD | ANDRE
MBAMBA | NIHAL | ABDULLAH
MC ALLISTER | PAIGE | PEET
MC MECKAN | TINA | RENNA
MCANERNEY | MARSHALL | FRANCIS
MCATHEY | MARY | SHANNON
MCCALL | SAMUEL | JAMES
MCCOLEMAN-AU | MEGAN | LORRAINE
MCCOY | ERIC | FRANK
MCCRACKEN | WENDY | LEE
MCGEE | MARY | LEE
MCGREGOR | HEATHER | ELIZABETH
MCINTOSH | ANNA | MARIA
MCKEE | MARYA
MCKENNEY | KEVIN | MICHAEL
MCKNIGHT | WENDY | JILL PATRICIA
MCMULLEN | LESLIE | HERSTONE
MCPHAIL | AMY | MARGARET
MCPHAIL | DIANE | MARIE
MCPHAIL | TIMOTHY | JAMES
MCSWEENEY | ELLEN | MARION
MEARS | EMILY | SPEERS
MEEHAN | CALEIGH
MEGIS | JEAN-PAUL
MEHTA | ADITYA | SACHIN
MEI | FENG | CHAN
MEIER | ANAT | DEBORAH
MEISLER-YEHUDA | MICHAL
MELIS | VINCENT | ALAIN
MESHIEA | DORETTA | JO
MEYER | MARTIN | LUCAS
MICHAUD | LOUISE | HELENE
MIDDLETON | JENNIFER | VOZOFF
MILANI | DEBORAH | JULIE
MILETO | ALAN | DENEB RICE
MILLAR | DAVID | BRUCE
MILLAR | HANNAH | JADE
MILLER | ALAN
MILLER | CARLA | RAE
MILLER | ERIC | JON
MILLER | HENRY | LOUIS
MILLER | JULIA | KATHERINE
MILLMAN | CYNTHIA | ANN DUBBLE
MILNE | CLAIRE | BARBARA
MIRPURI | AVINASH | JACKIE
MISCHKE | CINDY | SUE
MISSIG | ROBERT | LOWELL
MITCHARD | STEPHEN | GARRET
MODIZ | RAYMOND | FRANK
MODY | LISA | JANE
MOGERMAN | OM
MOHAMMED | IDRIS | MAJIDADI
MOLINARI | JOSEPH | SANTO
MONDIA | ALBERT | PAUL
MONTGOMERY | JEFF
MOORE | CATHERINE | FAYE
MORAN | EDWARD | JOHN
MORAR | ALEXANDRU
MORD | MATTHEW | FRANCIS
MORF | CAROLYN | CATHERINE
MORGAN | DIANE | KAY
MORGAN | MARILYN | REVELL
MORRIS | CRAIG | PAUL
MORRIS | JERAMIAH | JOY
MORTON | ELLI | PENNYROYAL
MOSER | MARKUS | LUDWIG
MOSS | JEFFREY | LEE
MOSTER | KATHLEEN | ELIZABETH
MOUNTFORD | THOMAS | SIMON
MOUSA | FAJAR | MOUSA S.
MROCZEK | YOKO | MICHELLE
MUECKE-DAVIS | CAROL | ELIZABETH
MUELLER | ASTRID | ELLEN
MUMMA | DIANA | LOUISE
MUNSON | JAMES | EDWARD BRADBURY
MURCK | BARBARA | WINIFRED
MURPHY | KATHLEEN | MAVOURNEEN
MURPHY | PATRICK | MICHAEL
MURRAY | CAROLANN | MARGO
MURRAY | DAVID | ALEXANDER BRUCE
MUZAYYIN | NADIM | BRIAN
MYRAM | KRISTIN | MARIE
NAKAMURA | BEVERLY | JANE
NAKAMURA | GLEN | TAKESHI
NELSON | RANDI | MARCEL
NELUMBU | HAITANGE | LINEEKELA
NEVILLE | HENRY | THOMAS GILBERT
NG | JUDY | CARMEN
NICHOLS | KENNETH | NOLAN
NICKELL | MELVIN | JAMES
NIELSEN | BECKY | JEAN
NIEMIETZ | ERIC | KLAUS
NIEWEG | ANNETTE | LEONORE
NISBET | LAURA | ELIZABETH MCDIARMID
NISHIKAWA | KUNIHIKO
NISKI | JOSEPH | ANTHONY
NORDMANN | CLAUDIA | CAROL WOLKERSON
NORMINGTON | JULIA | FRANCES HELEN
NSOULI | ATEF | ATEF
NYSSENS | WILLIAM | LAWRENCE
OATLEY | HANNAH | KATHLEEN JENKINS
OBERWELLAND | HUGO | LOUIS
OCONNOR | AMINTA | MARIA
OER | ELIZABETH | GWINN
OLCOTT | JOHN | KENNEDY
O'LEARY | JUDITH | MARY
OLIJNYK | ROMAN | WALTER
OLSON | LEONARD | LAVERN
O'NEILL | LORI | PATRICIA
ONSRUD | TIMOTHY | MARK
O'REGAN | KIERRA
OREN | ANN
ORLIKOWSKI | ISABEL
O'SHAUGHNESSY | EDWARD | PAUL RUSSELL
OSORIO | JEFFREY | ALAN
OTT | SUZANNE | ELIZABETH
OVERMANN | PETER | FRIEDRICH
OWENSBY | DWAIN | ALAN
OZBURN | GLENN | SEIJI
PACILLA | LENNEA | JULIA
PAGE | TERRY | EDWIN
PAGE | TREVOR | THRIFT
PAGNAMENTA | VIVIAN | DE LOURDES RODRIGUEZ
PAINCHAUD | JEAN | MARC JOSEPH
PALAZZO | MARY | CATHERINE
PALMER | JOHN | RICHARD
PANE | KIMBERLY | CLARE
PAPADIMITRIOU | CONSTANTINE | D.
PAPILLON | ANDRE | LOUIS
PAPPI | EDITH | MARIA
PARADIS | KARINA | EVE MARIE
PARIZEK | MIROSLAV
PARK | REBECCA | ELIZABETH
PATTERSON | DONALD | SCOTT
PATTISON-WILLIAMS | NAOMI | JANE HANDA
PAULING | GREGORY | RUSSELL
PECK | MARK | ALVAR
PEK | SHERI | XUEQI
PELLIZZARI | GIULIA
PELLY | ALICE | MARY
PENDERGAST JR | THOMAS | MICHAEL
PENG | JEFFREY | PAOCHANG
PERKINS | FREDERICK | MICHAEL
PERKINS | JOAN | CAROLINE
PERRY | JEAN | OLIN
PETERICH | MARIO | LUCA GIUSTI
PETERS | BARRY | JAMES NELSON
PETERS | CLAIRE | ANN
PETRETTA | ROBERT | ALEXANDER
PFISTER | CHARLOTTE | GAIL
PHANG | REBECCA | YUN-TING
PHO | JULIA | HUU
PHRIPP | TERI | RUTH
PICHE | PIERRE | ANDRE
PICHLER | PEGGY | ANN
PICKERING | REBECCA | CLAIRE
PIDGEON JR | WALTER | THOMAS
PILKINGTON | REBECCA | CHRISTINE
PINCH | GERALD | DOUGLAS
PISANO | ROBERT | ARTHUR
PITTMAN | SHIRLEY | ANNE
PIZZIOLO | RODOLFO | ALEXANDER
PIZZOLATO | PERRY | MICHAEL
PLAICE | ALEJANDRA | LUCIA
PLENNERT | WALTER | LAWRENCE
POLKOWSKI | ANDREW | JAN
PONTESILLI | MARTINA
PONTING | DAVID
PONTING | IRIS | VERA
POOL | PIERS | ANTHONY
POPE | MARY | ANN
PORTER | KENNETH | WILKINSON
POSESORSKI | ALISA | ANN
POURNARA | TARRYN | D.
PRATOMO | OCTAVIANA | MELANIE
PRATT | PATRICE | EILEEN
PRENNINGER | KELLEY | KATHLEEN
PRICHARD | CLARE | CORINNA
PRIESTLEY | DAVID | THOMAS DETTMER
PRINCE | LOUISA | RAQUEL
PRINZING | ISABEL | PATRICIA
PUNTENEY | JOHN | RICHARD
PYLE JR | ROBERT | KENNETH
QUINNELL | JAMES | WINSTON
QUITTER | JOHN | HAROLD ALEXANDER
QURAINI | NAJAH | YOSEF
RACH | DANIEL | JAMES
RAFFERTY | KETHRYN | THERESA
RAFFRE | LIAT | RACHEL
RAINE | BARBARA | HELEN
RAMBO | ALWEN
RAMSAHAI | JOEL
RANSOME | REBEKAH | LYNN
RAPPAPORT | SIMON
RATHGEB | EDITH | OLGA RUEGG
RATTAN | KAMAL | KUMAR
RAUSH | LINDA | CHRISTINE
RE | PAMELA | ANN
READING | ELINOR | LOUISE
REED | NAOMI | SARAH
REES | PAMELA | JOAN
REGENASS | MARK | GUSTAV
REIBSTEIN | JANET | ALESE
REICHMAN | ESTHER
REIFER | CHRISTINA | ELISABETH
REIMNITZ | ELISABETH | ANNA MARIA
REINHARDT | MARY | ANN
REISS | DAVID
REISS | PALLAS | ATHENE
REMPEL | KIMBERLY | SUZANNE
RENAUD | NICOLE | JACQUELINE
RENDER | RACHAEL | DEBORAH
RENGGANA | ERLAMGGA | ACKU KULA
REUVEKAMP | ALEXANDER | EDGAR
REVKIN | CHARLES | ORAY
REVKIN | LINDA | JOYCE
REY | JOSEPH | LOUIS
REYNOLDS | FRITZ | FLOHR
RICH | JAMES | STEVEN
RILEY | KEVIN | CHRISTOPHER
ROBB | KATHERINE | ANN
ROBBINS | SANDRA | LYNN
ROBERTS | ALEXANDRA | FAY
ROBERTS | CHRISTINA | JOAN
ROBERTS | GORDON | CRAIG
ROBERTS | PHILIPPA | JANE
ROBERTS | SAM
ROBERTSON | TAGEN | MICHELLE
ROBINSON | KELLY | BETH
ROBINSON | LORIE | KURTZ
RODGER | PAUL | JONATHON
ROLFSEN | AMY | LOU BRIGITT
ROLLET | PHILIPPE | HERVE
ROLLET | STEPHANIE | ANNICK
ROSE | MICHAEL | ALEXANDER
ROSEBUSH | SUSANNA
ROSENTHAL | LESLIE | JUDITH
ROSSMAN | PETER | STEPHEN
ROTH | LYLE | ROBERT
ROUXEL | ANNECHRISTINE
ROWEN | ANNE | THERESA
ROY | PEARLINE
ROYLANCE | SUSAN | REED
RUBES | JONATHON | MARK
RUDDOCK | WILLIAM | DONALD JEFFREY
RUMPF | DANIEL | HERMANN
RUSSO | REMO | NUNZIO
RUTH | AMY
RUTH | KATHLEEN | ANNE SOLAN
RUTH | THOMAS | JEAN
RUTLEDGE | CYDNE | KAY
RYAN | JESSICA | LEE
RYAN | VIRGINIA | MARY
RYERSON | LORI
RZASA | KONRAD | MACIEJ
SADIKIN | R | INDIANO DHARMAKARYA
SAID | HANAN
SALINAS | SHARI | REGINA
SANCHEZ | ELISA | OLIVA
SANDBERG | EMILY | JOHANNA
SANDOVAL | REYNARD | GLENN
SANDS | CAREN | AMY
SARIN | MADHU
SARKAR | SUMEDHA
SARKER | MANISHA
SARKISSIAN | CHRISTINE
SARRADO | ALICIA | PHILLIPPA MARIE
SAU | BANDANA
SAUNDERS | ROBERTA | ANN
SAUTTER | TIMOTHEE | PHILIPPE
SAVAGE | LORNA | ANNE
SAVAGE | MICHAEL | RICHARD
SCASSERRA | ANGELO
SCHAAL | KATHARINA | MARGARETE
SCHABAS | PAUL | BARKER
SCHADE | MARKUS | CORNELUS
SCHAFFHAUSER | MARKUS | PAUL
SCHARF | PETER | WALTER
SCHILCHER | LINDA | S.
SCHJELDERUP | BEVERLY | JO
SCHLEPP | VAUGHAN | ROYDON
SCHMID | ALICE | ANDREA
SCHMITZ-LEUFFEN | SVEN | LOTHAR
SCHNAIDER | BENJAMIN
SCHNEEBERGER | FRANK | HANS
SCHOLL | KARL | NIKOLAUS PAUL
SCHOLL | MARCUS | PAUL NIKOLAUS
SCHREIBER | JULIAN | DANIEL
SCOTT | CYNTHIA | ELAINE
SCOTT | LISA | ANN
SEBASTIAN | LOU | ANN
SEE | ANDRIS | AN GE
SEGUIN | YVAN | PAUL
SEITZ | SUSAN | ELISABETH
SELINGER | FLORENCE | MARY
SELINGER | FLORENCE | MARY
SELVAGE | BARBARA | BAUGHER
SEMELMAN | GRANT | LOREN WELLS
SEMERCI | CLAUDIA | BARRIOS
SERBUS | JEFFREY | SCOTT
SEVACK | EVE
SEWELL | EMMA | ELIZABETH
SHABSOVE | ALAN | BRUCE
SHABSOVE | ERIC | HOWARD
SHABSOVE | STUART | MARK
SHAHARIW | KATHERINE
SHAMIR | NETTA
SHAPIRO | MARIKA | NOEMI
SHAPS | MADELEINE | IRENE
SHARPINGTON-RECNY | ELIZABETH | L. C. E.
SHAW | REBECCA | DAWN
SHAW | REBECCA | JEAN
SHEEHAN | VINCENT | JAMES
SHEFET | JOSEPH | CHANON
SHEFET | MIRIAM
SHEHADEH | MARWAN | ANTHONY
SHEN | GUORONG
SHERK | ADAM | NEVILLE
SHI | WEIGNO
SHIELDS | ADAM | JONATHON
SHIELDS | IRENE | EMILIA
SHIH | WEI-CHIANG
SHIMIZU | YOHEI
SHIRASAKI | KIMBERLY | ERI
SHIVES | VALERIE | MARIE CHRISTIAN
SHOWMAN | DINAH | JEANNE
SHPILSKY | SIMONA | EMELY
SHUFF | TIMOTHY | MALCOLM
SHULIST | DIANA | MARIE
SHUM CHAN | OLIVIA | YUET-SHANG
SIGRIST | MHAIRI | KIRSTIN
SILVER | CAREN | ADA
SILVERSTEIN | MARK | SAMUEL
SIMON | ALEXANDER | GEROLD ALBERT
SIMON | ANNA | ELSA CAROLINA
SIMPSON | BONNIE | JEAN
SISWOJO | AMANDA | EKARAITH S.
SIVERS | CHRISTINA | LYNN
SKOPYK | VICKI | JO
SKRENTNY | BARNABAS | A.
SLAWSON | DANA | MARIE
SMILEY | NORALYN | JANE
SMITH | EMILY | RACHEL OVEREND
SMITH | JARED | ANDREW
SMITH | JOHN | ALLAN
SMITH | KENNETH | DAVID
SMITH | SHERRI | LYNN
SMITH | TIA | MARIE
SNEDDEN | MICHAEL | SCOTT
SNIPPER-HIGSON | KALEN | JOSHUA
SOLEM | JENNIFER | ANN
SOMMERAUER SIDIALI | BARBARA | NELLY
SONIK | MARK | DANIAL
SONNTAG | ANGELA | GERTRUDIS
SORRENTINO | LISA | KINLEY
SOUTH | LINDA | OLIVER
SPENCER | JOHN | WESLEY
SPENCER | PATRICIA | ANN
SPORN | JUDITH | SHARON
ST PIERRE | ANTHONY | SHERWOOD
STAFFORD | MARIAN | AGNES
STANWAY | LINDA
STAVRINIDES | ANNA | KATERINA
STEBBING | PETER
STEIN | LEONARD | MILTON
STEIN | MARIA
STELLER | PATRICIA | ANN
STELLER | RICHARD | PETER
STEPHENS | MARY | ANNE
STEPHENSON | JAMES | BLACKWOOD
STEVENS | JAMES | OTTIS
STEWART | JENNIFER | MORGAN
STEWART | VENUSIA | MARFIANTY
STEYNOR | ELIZABETH | ANGELA
STIMSON | JOEL | ELLIOTT
STOHLER | REMO | FABIO
STORK | PHILIP | ALEXANDER
STRASKY | TRACY | LEE
STRATTON | ANNA | ELEANOR
STRICKLAND | JAMES | AUGUST
STROM | RYAN | KEITH
STRUIJK | THOMAS | VINCENT
STUART WEINER | JANET | LEILA
STUKEL | THERESE | ANNE
STUTT | JULIE | MARGARET
SUESS | ERIKA | LEE
SULIMANI | MOSHE
SULLIVAN | AMY | VANCE
SUMMERLIN | NICHOLAS | MAXMILIAN
SUN | KEVIN | WEI YUNG
SUN | LEI | SUNNY
SUN | VICKY | WAI KI
SUPPLE | MAIREAD | CLARE
SURENDRA | SHRAVAN
SURPHLIS | NANCY | ELIZABETH
SUSSE | ELEONORE | BARRIERE
SUTTON | RICHARD | STUART
SWEETLAND | JOHN | PAUL
SYAMSUDIN | AUDY
SZETO | KAREN | SHIU-LING CHOI
SZREDNI | NATHAN | AVRAM
SZU | PRISCILLA
TABATA | YOSHIKAZU
TAEUBER | DONNA | LEE DICKSON
TAJIRI | MICHELE | YUKO
TAKAHASHI | SANAE
TAKAMATSU | ISAMU
TAKEDA | REIKO
TAM | SAMANTHA | LOK-MAN
TAMANAHA | KAZUKO
TAN | MIN-GUEN
TANG | ANDREW | YIU-CHUNG
TAO | YUEQUN
TAYLOR | BARBARA | JOY
TAYLOR | DYLAN | ARTHUR
TAYLOR | LEAH | WENDY
TAYLOR | LISA
TAYLOR | PAMELA | LYNN
TELLER | STEPHEN | JAMES
TELMOOSE | DANIEL | JEAN-PAUL
TEOLIS | CORTLEIGH | ANN
TEOLIS | JOHN | LAWRENCE
TEOLIS | MARY | BETH
THAISS | MARK | JAHAN
THAKUR | LIANE | BETH
THEUX | ALEXANDER | ROBERT LOWEN
THIBEAULT | RODRICK | MARC
THIELEMAN | ARTHUR | RAYMOND
THIESSEN | BETH | ANN
THIESSEN | JUANITA | JANE
THIJM | DAAN | LODEWIJK ALBERDINGK
THOMAS | CHRISTINE | MARIE
THOMAS | JENNIFER | MEGAN
THOMAS | MARLENE | KAY
THOMPSON | CHRISTOPHER | JAMES
THOMPSON | DARCY | JILL
THOMPSON | DOROTHY | CARRINGTON
THOMSON | KENNETH | STEPHEN
THORN | JULIE | ANNE YIP
TILL | SIMON | ANDREW
TIMMONS | ANGELA | CATHERINE
TING | KANG
TOEPFER | SUSAN | MC LEAN
TORESCO | ROBERT | DOMINIC
TORGERSON | VALERIE | RENEE
TOVAR | ARTHUR
TOWART | ELIZABETH | M.
TOZER | MICHELE | RAE
TRAUTMANN | GEORGE | TERRY
TRITTON | GARY | JOHN
TRUEMAN | REBECCA | JO
TRUONG | TUYEN | PATRICK
TSAI | ALEX | KUO-JENG
TSAI | JASON | T.
TSAI | MING | TA
TSE | JOANNA | HOI-LAM
TSENG | ANGELA | LIN-CHI
TURCOTTE | PIERRE
TURLETSKY | ELLEN | BETTE
TURNER | JUSTIN | DEVON
ULMER | MONTANA | TIARA
ULMER | RYDER | RAD
ULRICH | LOUIE | MARTIN
URBISTONDO-OTEGUI | SANTIAGO
VAARTJES | JOHANNES | WILLEM
VALERIO | DARIA | GIANINA
VAN DEN ABEELE | EMILE | KAREL
VAN DEN BERGHE | LAURENT | PHILIPPE C.M.
VAN DER STEEN | ELENA | JOHANNA
VAN DER VOORT | RICHARD | ANTHONY
VAN DER WAL | SEAN | GORDON
VAN HOUTEN | DAPHNE | MADELON
VAN NISPEN | MARC | JOACHIM ALEXANDER
VAN PASSEL | HILDE | ANNA AUGUSTA
VAN ZANTEN | MARK | HAROLD VELDHUIJZEN
VAN ZEIJL-VAN STOLK | MARGARET | ALEXANDRA
VANCE | LINDA | LANE
VANDAMME | EMILIA | AUDREY CONSTANCE A.
VATIS | KARIN
VAUGHAN | AVIVA | ESTHER
VAUGHAN | DON | WILLAN
VAUGHAN | PATRICIA | RAE
VERBIEST | KIERAN | GIJS
VERDIN | VIVECA | LYNN
VERGARA | ROSANNA
VEYSSET | MAXIME | JUNIOR
VIDI | PAOLABERTA | CORTELLI
VIENS | CHRISTINE | KATHY
VILLAR | MONICA | TRACEY ANNE
VISSCHER | DEBRA | JOANNE
VLAK | GERARD | JOHAN
VLAK | MARIA | GABRIELLA
VON BERGEN | DANIEL | OSCAR
VON BERGEN | SCOT | FREDERICK
VON MEYENFELDT | WENDY | JO
VON WISSEL | BRITTA | KATHRIN
VRACIN | ANN | LOUISE
WAGMAN | ROBERT | DAVID
WAGNER | KIM | LORRAINE
WAI | YUEN | YEE
WALKER | CONNIE | COLLEEN CATHERINE
WALLACE | CHELSEY | NICOLE
WALLENIUS | SHIRLEY | JEAN
WALLETTE | ANDREA | NICOLE
WALLIS | MAYBELLE | ALICE
WALLIS | MICHAEL | EDWARD
WANG | GEORGE | CHE-CHING
WANG | HELEN
WANG | JOY
WANG | JUN
WANG | KEVIN
WANG | PING
WANG | SAMSON | CHI YUAN
WANG | SAN-SAN
WARREN | CAROLYN | PENELOPE
WASSERMAN | JACK | MARTIN LEWARNE
WASYLIK | JOHANNA | ELIZABETH
WASYLIK | NICHOLAS | CHARLES
WATHNE | DAVID | FRANK HUEY
WEBB | JENNIFER | LYNNE
WEBER | BARBARA | GABRIELA
WEBER | WALTER | PAUL
WECHSLER | ESTELLE
WECHSLER | SAMUEL
WEEDON-MACDONALD | SARA | ALICIA
WEEKS | CASEY | BRUCE
WELCH | FLORENCE | LEONTINE MARY
WELLNER | CATHRYN | JOYCE
WELLS | EMMA | KAREN
WELTZ | LORI | SUE
WEN | JASON | JEAR
WERNICK | JANE
WESTERHOF | CLAUDETTE | ANTOINETTE
WESTERHOF | RAVEN | ALINDE
WESTRA | BOUKE | JORRID
WETTACH | MARK
WHEELER | SANDRA | JUNE
WHITE | CATHERINE | ELIZABETH HAMBLIN
WHITE | EDYTHE | JEANINE
WHITE | MATTHEW | BARLOW
WHITE | PAMELA | JOHNSON
WICKERSON | AINSLEY | ANN
WIDMER | KILIAN | BING
WIJAYA | HENDRA
WIJAYA | SUSIANTI | SETIO
WILKINSON | MARGOT | MAE
WILL | GAYLE | ALBERT
WILLARD | ROSS | DAVID
WILLIAMS | GRACE | ELAINE
WILLIAMS | HUGH | EVAN
WILLIAMS | JANE | ELIZABETH
WILLIAMS | ROY | GEORGE
WILLIAMS | SELINA | JANE
WILSON | BARBARA | LEILANI
WILSON | CAROL | DOWNS DRAKE
WILSON | REBECCA | JEAN
WILTSHIRE | ELISABETH | LOUISE
WITTE | WILLIAM | JOHN
WOLCH | BARBARA | SUSAN
WOLF | NANCY | JEAN
WOLTER | KATHERINE | ELIZABETH
WOLTERS | PAUL | ANDREAS
WRIGHT | RICHARD | DELANO
WRIGHT | VIRGINIA | DENISE
WU | LIN
WU | MAX | CHIH-HSIANG
YAFFE | ALAN | MARC
YAMAMOTO | YOKO | MARIE
YAMASHITA | REO | DANIEL
YANG | CARL
YANG | HAE | CHUNG
YANG | JERI
YANG | SHU | FANG
YANG | STEVE | WIYI
YAP | SU | JEN
YAVIN | IRIS | YAEL
YEATES | JAMIESON | CHARLES
YEH | FRANKLIN | CHUNG
YENSON | ELIZABETH
YEO | ELAINE
YEO | TIFFANY | YU LING
YIP | BONNIE
YOO | ANN
YOUDELL | CHRISTOPHER | ALLAN
YOUNG | ELIZABETH | GORDON
YOUNG-JOHNSON | KATHLEEN | ROBERTA
YU | PEI | LIAN
YUAN | YI
YUE | EDWIN | KEIN HING
YUN | JERALD | JIN
ZANDBERGS | ALDIS | IMANTS
ZANEN-VITOLO | LAURA | MARIE
ZAPPE | HANS | PAUL
ZENG | WEI | HONG
ZHU | CHENG
ZIESENISS | CHRISTOPHER | GEROME
ZILBERG | ALEXANDR | FIDGERALD
ZIMMERMAN | PHILIP | BERNARD
ZIN | EMIL | HYUNBAE
ZIRBEL | ALEXA | KATHERINE
ZOCKOLL | JAMES | FRANCIS
ZOGG | MARY | ELLEN
ZOHAR | SHLOMIT | ZAARUR
ZULFACAR | ROXANA
ZWIERS | HENK | JAN

Dated: October 25, 2017.
Gladys Perez-Hernandez,
Manager, Classification Team 82413, Examinations Operations—Philadelphia Compliance Services.

[FR Doc. 2017-23885 Filed 11-1-17; 8:45 am]

BILLING CODE 4830-01-P